FEDERAL COMMUNICATIONS COMMISSION

47 CFR Part 11

[EB Docket No. 04-296; FCC 12-7]

Review of the Emergency Alert System

AGENCY: Federal Communications Commission.

ACTION: Final rule; announcement of effective date.

SUMMARY: In this document, the Commission announces that the Office of Management and Budget (OMB) has approved, for a period of six months, the information collection associated with the Commission's Review of the Emergency Alert System, Fifth Report and Order (Order). This document is consistent with the Order, which stated that the Commission would publish a document in the Federal Register announcing the effective date of amendments adopted therein that were subject to OMB approval.

DATES: The amendments to 47 CFR 11.21(a), 11.33(a)(4), 11.41(b), 11.42, 11.54(b)(13), and 11.55 published at 77 FR 16688, March 22, 2012, are effective June 7, 2012.

FOR FURTHER INFORMATION CONTACT: Gregory Cooke, Policy Division, Public Safety and Homeland Security Bureau, at (202) 418-2351, or email: gregory.cooke@fcc.gov.

SUPPLEMENTARY INFORMATION: This document announces that, on May 16, 2012, OMB approved, for a period of six months, the information collection requirements contained in the Commission's Order, FCC 11-92, published at 77 FR 16688, March 22, 2012. The OMB Control Number is 3060-1169. The Commission sought emergency OMB approval and will now conduct all the regular OMB processes to obtain the full three-year clearance from them. The Commission publishes this notice as an announcement of the effective date of the rules. If you have any comments on the burden estimates listed below, or how the Commission can improve the collections and reduce any burdens caused thereby, please contact Judith B. Herman, Federal Communications Commission, Room 1-C823, 445 12th Street SW., Washington, DC 20554. Please include the OMB Control Number, 3060-1169, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received emergency OMB approval on May 16, 2012, for the information collection requirements contained in the modifications to the Commission's rules in 47 CFR part 11. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1169.

The foregoing notice is required by the Paperwork Reduction Act of 1995, Public Law 104-13, October 1, 1995, and 44 U.S.C. 3507.

The total annual reporting burdens and costs for the respondents are as follows:

OMB Control Number: 3060-1169.

OMB Approval Date: May 16, 2012.

OMB Expiration Date: November 30, 2012.

Title: Part 11—Emergency Alert System, Fifth Report and Order, FCC 12-7.

Form Number: N/A.

Respondents: Business or other for-profit entities, not-for-profit institutions, and state, local or tribal government.

Number of Respondents and Responses: 20 respondents; 20 responses.

Estimated Time per Response: 20 hours.

Frequency of Response: On-occasion reporting requirements and recordkeeping requirements.

Obligation to Respond: Voluntary. The statutory authority for this information collection is found at sections 1, 2, 4(i), 201-205, and 226(h)(1)(A) of the Communications Act of 1934, as amended (Act), 47 U.S.C. 151, 152, 154(i), 201-205, and 226(h)(1)(A).

Total Annual Burden: 400 hours.

Total Annual Cost: N/A.

Nature and Extent of Confidentiality: There is no need for confidentiality.

Needs and Uses: Part 11 contains rules and regulations providing for an emergency alert system (EAS). The EAS provides the President with the capabililty to provide immediate communications and information to the general public during periods of national emergency. The EAS also provides state and local governments and the National Weather Service with the capability to provide immediate communcations and information to the general public concerning emergency situations posing a threat to life and property. In the Order, the Federal Communications Commission (Commission) adopts amendments to its Part 11 rules governing the EAS to more fully codify the existing obligation to process alert messages formatted in the Common Alerting Protocol and to streamline, and to streamline and clarify these rules eliminate superfluous and stale requirements and generally enhance their effectiveness. Some of these amendments modify or clarify existing information collection requirements. Accordingly, the Commission sought and obtained authorization to modify such various information collection requirements that already existed in the Part 11 rules.

Federal Communications Commission.
Marlene H. Dortch,
Secretary.

[FR Doc. 2012-13789 Filed 6-6-12; 8:45 am]

BILLING CODE 6712-01-P